DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Logbook Family of Forms.

Form Number(s): None.

OMB Approval Number: 0648-0213.

Type of Request: Regular submission.

Burden Hours: 43,332.

Number of Respondents: 899.

Average Hours per Response: Daily fishing logbooks (DFLs), 18 and 28 minutes; daily cumulative production logbooks (DCPLs), 30 and 41 minutes; check-in/check-out reports, 7 minutes; weekly production reports, 17 minutes; vessel activity reports, 14 minutes; buying station reports, 23 minutes; product transfer reports, 20 minutes; fish tickets, 35 minutes.

Needs and Uses: As part of fishery management plans whose development was authorized by the Magnuson-Stevens Fishery Conservation and Management Act (16 U.S.C. 1801 et seq.), and the Northern Pacific Halibut Act of 1982 (16 U.S.C 773 et seq.), NMFS Alaska Region provides free logbooks for harvesters (DFLs) and processors (DCPLs) to record groundfish information. The longline or pot gear logbooks for catcher vessels and catcher/processors also may be used to record Pacific halibut and sablefish Individual Fishing Quota information as well as crab rationalization program information. NMFS is submitting a renewal for this collection.

Affected Public: Business or other for-profit organizations.

Frequency: Daily, weekly and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 18, 2008.
Gwellnar Banks,
Management Analyst, Office of the Chief Information Officer.

[FR Doc. E8-22230 Filed 9-23-08; 8:45 am]

BILLING CODE 3510-22-P